DEPARTMENT OF VETERANS AFFAIRS

[OMB Control No. 2900-NEW-IRIS]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATE: Comments must be submitted on or before August 6, 2001.

FOR FURTHER INFORMATION OR A COPY OF THE SUBMISSION CONTACT: Denise McLamb, Information Management Service (045A4), Department of Veterans Affairs, 810 Vermont Avenue, NW., Washington, DC 20420, (202) 273-8030 or FAX (202) 273-5981 or e-mail to: denise.mclamb@mail.va.gov. Please refer to “OMB Control No. 2900-NEW-IRIS” in any correspondence.

SUPPLEMENTARY INFORMATION: Title: Inquiry Routing and Information System (IRIS).

OMB Control Number: 2900-NEW-IRIS.

Type of Review: New collection.

Abstract: The World Wide Web is a powerful medium for the delivery of information and services to veterans, dependents, and active duty personnel worldwide. The proposed Inquiry Routing and Information System (IRIS) would allow a VA customer to be able to submit his or her questions at any time and receive answers more quickly than through standard mail. Because the system is automated, inquires would be directed to the appropriate individual/office automatically. The contact information being solicited will be used to identify the particular veteran. VA personnel will use the contact information to determine the location of a specific veteran's file, and to accomplish the action requested by the correspondent such as processing a benefit claim or filing material in the individual's claims folder.

An agency may not conduct or sponsor, and a person is not required to respond to a collection of information unless it displays a currently valid OMB control number. The Federal Register Notice with a 60-day comment period soliciting comments on this collection of information was published on February 15, 2001, at page 10564.

Affected Public: Individuals or Households.

Estimated Annual Burden: 2,000 hours.

Estimated Average Burden Per Respondent: 10 minutes.

Frequency of Response: On occasion.

Estimated Number of Respondents: 12,000.

Send comments and recommendations concerning any aspect of the information collection to VA's OMB Desk Officer, OMB Human Resources and Housing Branch, New Executive Office Building, Room 10235, Washington, DC 20503, (202) 395-7316. Please refer to “OMB Control No. 2900-NEW-IRIS” in any correspondence.

Dated: June 20, 2001.
By direction of the Secretary.
Donald L. Neilson,
Director, Information Management Service.

[FR Doc. 01-16889 Filed 7-5-01; 8:45 am]

BILLING CODE 8320-01-P